DEPARTMENT OF DEFENSE

Office of the Secretary

Meeting of the Defense Department Advisory Committee on Women in the Services (DACOWITS)

AGENCY: Department of Defense.

ACTION: Notice; meeting of the Defense Department Advisory Committee on Women in the Services.

SUMMARY: Pursuant to Section 10(a), Public Law 92-463, as amended, notice is hereby given of a forthcoming meeting of the Defense Department Advisory Committee on Women in the Services (DACOWITS). The purpose of the Committee meeting is to discuss the 2004 DACOWITS Report. The meeting is open to the public, subject to the availability of space.

Interested persons may submit a written statement for consideration by the Committee and make an oral presentation of such. Persons desiring to make an oral presentation or submit a written statement to the Committee must notify the point of contact listed below no later than 5 p.m., May 9, 2005. Oral presentations by members of the public will be permitted only on Monday, May 16, 2005, from 4:45 p.m. to 5 p.m. before the full Committee. Presentations will be limited to two minutes. Number of oral presentations to be made will depend on the number of requests received from members of the public. Each persons desiring to make an oral presentation must provide the point of contact listed below with one (1) copy of the presentation by 5 p.m., May 9, 2005 and bring 35 copies of any material that is intended for distribution at the meeting. Persons submitting a written statement must submit 35 copies of the statement to the DACOWITS staff by 5 p.m. on May 9, 2004.

DATES: 16 May 2005, 8:30 a.m.-5 p.m., 17 May 2005, 8:30 a.m.-5 p.m.

Location: Double Tree Hotel Crystal City National Airport, 300 Army Navy Drive, Arlington, VA 22202.

FOR FURTHER INFORMATION CONTACT: MAJ Kimberly Venable, USA DACOWITS, 4000 Defense Pentagon, Room 2C548A, Washington, DC 20301-4000. Telephone (703) 697-2122. Fax (703) 614-6233.

SUPPLEMENTARY INFORMATION: Meeting agenda.

Monday, May 16, 2005, 8:30 a.m.-5 p.m.

Welcome & Administrative Remarks.

Work Life Balance.

Deployment and Families.

Deployment and Women.

Public Forum.

Tuesday, May 17, 2005, 8:30 a.m.-5 p.m.

DoD Mental Health Program.

Army Research Institute.

Army Human Resources Command.

Personal Responsibility Program.

Note: Exact order may vary.

Dated: May 5, 2005.
Jeannette Owings-Ballard,
Federal Register Liaison Officer, Department of Defense.

[FR Doc. 05-9416 Filed 5-10-05; 8:45 am]

BILLING CODE 5001-06-M